DEPARTMENT OF THE INTERIOR

Bureau of Land Management

Notice of Availability of the Draft Resource Management Plan and Environmental Impact Statement for the Ely Field Office, Nevada

AGENCY: Bureau of Land Management, Interior.

ACTION: Notice of availability.

SUMMARY: In accordance with the National Environmental Policy Act of 1969 (NEPA) and under the authority of the Federal Land Policy and Management Act of 1976 (FLPMA), a Draft Resource Management Plan and Environmental Impact Statement (DRMP/EIS) has been prepared for public lands and resources administered by the Bureau of Land Management's Ely Field Office.

DATES: The comment period will end 120 days after the Environmental Protection Agency's Notice of Availability is published in the Federal Register announcing the availability of this DRMP/EIS. Comments on the DRMP/EIS must be received on or before the end of the comment period at the address listed below. Public meetings will be held during the comment period. Public meetings will be held in Nevada in the cities of Ely, Caliente, Mesquite, Las Vegas, Reno, and Tonopah. Any other public involvement activities will be announced at least 15 days in advance through public notices, media news releases, newsletter mailings, and on the Ely RMP Web site at http://elyrmp.ensr.com.

ADDRESSES: Written comments should be sent to Ely RMP Team, BLM Ely Field Office, HC 33, Box 33500, Ely, Nevada 89301. Comments may also be sent by e-mail to elyrmp@blm.gov. Documents pertinent to the DRMP/EIS and written comments, including names and street addresses of respondents, will be available for public review at the Ely Field Office at the address above during regular business hours, 7:30 a.m. to 4:30 p.m., Monday through Friday, except holidays. Responses to the comments will be published as part of the Proposed Resource Management Plan/Final Environmental Impact Statement.

FOR FURTHER INFORMATION CONTACT: For further information and/or to have your name added to the mailing list contact Gene Drais, RMP Project Manager, at (775) 289-1880 or correspond by e-mail to elyrmp@blm.gov.

SUPPLEMENTARY INFORMATION: The Ely RMP planning area is located in eastern Nevada in Lincoln, Nye, and White Pine Counties. The planning area addressed in the RMP contains 11,400,000 acres of public lands administered by the BLM Ely Field Office and the Caliente Field Station. The DRMP/EIS focuses on the principles of multiple use and sustained yield as prescribed by Section 202 of the FLPMA. The following participated in development of the RMP as cooperating agencies with special expertise: Duckwater Shoshone Tribe; Ely Shoshone Tribe; Great Basin National Park; Humboldt-Toiyabe National Forest; Lincoln County; Moapa Band of Paiutes; Nellis Air Force Base; Nevada Division of Minerals; Nevada Department of Transportation; Nevada Department of Wildlife; Nye County; Nevada State Historic Preservation Office; White Pine County; and Yomba Shoshone Tribe.

The public is invited to review and comment on the range and adequacy of the draft alternatives and associated environmental effects. For comments to be most helpful, they should relate to specific concerns or conflicts that are within the legal responsibilities of the BLM and can be resolved in this planning process. The DRMP/EIS provides direction and guidance for the management of approximately 11,400,000 acres of public land located in Lincoln, Nye, and White Pine Counties in eastern Nevada. The DRMP/EIS will replace the Schell and Caliente Management Framework Plans approved in 1983 and 1981, respectively, and the Egan Resource Management Plan approved in 1987.

The public involvement and collaboration process implemented for this effort included six open houses during scoping; presentations to interested organizations upon their invitation; presentations to and suggestions from the Mojave Southern Great Basin and the Northeastern Great Basin Resource Advisory Councils (RACs); and distribution of information via the Ely RMP website and periodic newsletters. A copy of the DRMP/EIS has been sent to individuals, agencies, and groups who requested a copy, or as required by regulation or policy.

The DRMP/EIS considers and analyzes five (5) alternatives, including the No Action Alternative (Continuation of Existing Management), alternatives that emphasize restoration of ecological systems, commodity production, and exclusion of permitted discretionary uses, and the BLM's Preferred Alternative. These alternatives were developed based on public input including scoping (February through July 2003), numerous meetings with local, State, tribal, and Federal agencies (Cooperating Agencies), and informal meetings with interested organizations upon their request. The alternatives provide for an array of alternative land use allocations and variable levels of commodity production and resource protection and restoration. After comments are reviewed and any pertinent adjustments are made, a Proposed RMP and Final Environmental Impact Statement are expected to be available in the summer of 2006.

The issues addressed in the formulation of alternatives include maintenance and restoration of resiliency to disturbed vegetation within the Great Basin, protection and management of habitats for special status species, upland and riparian habitat management, noxious and invasive plants, commercial uses (including livestock grazing, special recreation permits, mineral development, oil and gas leasing, rights-of-way and communication use areas), Areas of Critical Environmental Concern (ACECs), travel management, land disposal, and wild horses.

The preferred alternative considers 3 existing ACECs totaling 212,500 acres and 18 proposed new ACECs totaling 135,400 acres and ranging in size from 40 acres to 26,200 acres. The following types of resource use limitations would apply to restrictions on locations of rights-of-way, off-highway vehicle use, mineral exploration or development, disposal of lands and livestock use. For detailed information, see Chapter 2.5.22 of the Draft RMP/EIS.

If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Review copies of the DRMP/EIS are available at the following locations in and near the planning area:

BLM Caliente Field Station

BLM Elko Field Office

BLM Ely Field Office

BLM Las Vegas Field Office

Ely Ranger District, Ely, Nevada

Great Basin National Park

Lincoln County Courthouse

Lincoln County Public Library

Nye County Courthouse

Nye County Public Library

White Pine County Courthouse

White Pine County Public Library

The DRMP/EIS and other associated documents may also be viewed and downloaded in PDF format at the Ely RMP Web site at http://elyrmp.ensr.com.

Gene A. Kolkman,
Ely Field Office Manager, Nevada.

[FR Doc. 05-14939 Filed 7-28-05; 8:45 am]

BILLING CODE 4310-HC-P